DEPARTMENT OF HEALTH AND HUMAN SERVICES

Administration for Children and Families

Proposed Information Collection Activity; Comment Request

Proposed Projects

Title: Online Interstate Referral Guide (IRG).

OMB No.: 0970-0209.

Description: The IRG is an essential reference maintained by OCSE that provides States with an effective and efficient way of viewing and updating State profile, address, and FIPS code information by consolidating data available through numerous discrete sources into a single centralized, automated repository.

Respondents: State IV-D Child Support Programs.

Annual Burden Estimates
Instrument | Number of respondents | Number of responses per respondents | Average burden hours per response | Total burden hours
Online IRG | 54 | 18 | .3 | 292
Estimated Total Annual Burden Hours |  |  |  | 292

In compliance with the requirements of Section 3056(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: AFC Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 26, 2002.
Robert Sargis,
Reports Clearance Officer.

[FR Doc. 02-25004 Filed 10-1-02; 8:45 am]

BILLING CODE 4184-01-M